DEPARTMENT OF ENERGY

[Docket No. PP-229]

Notice of Intent To Prepare an Environmental Impact Statement and to Conduct Public Scoping Meetings and Notice of Floodplain and Wetlands Involvement; Tucson Electric Power Company

AGENCY: Department of Energy (DOE).

ACTION: Notice of intent to prepare an environmental impact statement (EIS) and to conduct public scoping meetings.

SUMMARY: Tucson Electric Power Company (TEP) has applied to DOE for a Presidential permit to construct a double-circuit 345,000-volt (345-kV) transmission line originating at TEP's South Substation in Sahuarita, Arizona, and extending approximately 60 miles to the south along one of three alternative routes, where it would cross the United States border with Mexico in the vicinity of Nogales, Arizona. South of the border, the line would extend approximately 60 miles into Mexico and terminate at an existing substation located in the City of Santa Ana, in the Mexican State of Sonora. DOE has determined that the issuance of the Presidential permit would constitute a major Federal action that may have a significant impact upon the environment within the meaning of the National Environmental Policy Act of 1969 (NEPA). For this reason, DOE intends to prepare an EIS to address reasonably foreseeable impacts from the proposed action and alternatives.

The purpose of this Notice of Intent is to inform the public about the proposed action, announce plans for three public scoping meetings in the vicinity of the proposed transmission lines, invite public participation in the scoping process, and solicit public comments for consideration in establishing the scope and content of the EIS. Because the proposed project may involve an action in a floodplain or wetland, the EIS will include a floodplain and wetlands assessment and floodplain statement of findings in accordance with DOE regulations for compliance with floodplain and wetlands environmental review requirements (10 CFR part 1022).

DATES: DOE invites interested agencies, organizations, and members of the public to submit comments or suggestions to assist in identifying significant environmental issues and in determining the appropriate scope of the EIS. The public scoping period starts with the publication of this Notice in the Federal Register and will continue until August 9, 2001. Written and oral comments will be given equal weight, and DOE will consider all comments received or postmarked by August 9, 2001 in defining the scope of this EIS. Comments received or postmarked after that date will be considered to the extent practicable.

Dates for the public scoping meetings are:

1. July 30, 4 p.m. to 7 p.m., Sahuarita, Arizona

2. July 31, 4 p.m. to 7 p.m., Rio Rico, Arizona

Requests to speak at a public scoping meeting(s) should be received by Mrs. Ellen Russell at the address indicated below on or before July 26, 2001. Requests to speak may also be made at the time of registration for the scoping meeting(s). However, persons who submitted advance requests to speak will be given priority if time should be limited during the meeting.

ADDRESSES: Written comments or suggestions on the scope of the EIS and requests to speak at the scoping meeting(s) should be addressed to: Mrs. Ellen Russell, Office of Fossil Energy (FE-27), U.S. Department of Energy, 1000 Independence Avenue, SW., Washington DC 20585-0350; phone 202-586-9624, facsimile: 202-287-5736, or electronic mail at Ellen.Russell@hq.doe.gov.

The locations of the scoping meetings are:

1. Rancho Resort, 1300 W. Sahuarita Road, Sahuarita, Arizona.

2. Rio Rico Resort, 1069 Camino Caralampi, Rio Rico, Arizona.

FOR FURTHER INFORMATION CONTACT: For information on the proposed project or to receive a copy of the Draft EIS when it is issued, contact Mrs. Russell at the address listed in the ADDRESSES section of this notice. The TEP application, including associated maps and drawings, can be downloaded in its entirety from the Fossil Energy web site (www.FE.DOE.GOV; choose “Electricity Regulation,” then Pending Procedures).

For general information on the DOE NEPA review process, contact: Carol M. Borgstrom, Director, Office of NEPA Policy and Compliance (EH-42), U.S. Department of Energy 1000 Independence Avenue, SW., Washington, DC 20585-0119; Phone: 202-586-4600 or leave a message at 800-472-2756; Facsimile: 202-586-7031.

SUPPLEMENTARY INFORMATION:

Background and Need for Agency Action

Executive Order 10485, as amended by Executive Order 12038, requires that a Presidential permit be issued by DOE before electric transmission facilities may be constructed, maintained, operated, or connected at the U.S. international border. The Executive Order provides that a Presidential permit may be issued after a finding that the proposed project is consistent with the public interest. In determining consistency with the public interest, DOE considers the impacts of the project on the reliability of the U.S. electric power system and on the environment. The regulations implementing the Executive Order have been codified at 10 CFR 205.320-205.329. Issuance of the permit indicates that there is no Federal objection to the project, but does not mandate that the project be completed.

On August 17, 2000, TEP, a regulated public utility, filed an application for a Presidential permit with the Office of Fossil Energy of DOE, and on May 18, 2001, supplemented its application with its March 1, 2001, application to the Arizona Corporation Commission for a Certificate of Environmental Compatibility. TEP proposes to construct two 345-kV transmission circuits on a single set of support structures. Both circuits would originate at TEP's existing South Substation located approximately 15 miles south of Tucson in the vicinity of Sahuarita, Arizona, and 1.4 miles east of Interstate Highway 19 (I-19), south of Pima Mine Road, in Pima County, Arizona. South of the border, TEP would extend the line approximately 60 miles to the Santa Ana Substation, located in the City of Santa Ana, Sonora, Mexico, and owned by the Comision Federal de Electricidad (CFE), the national electric utility of Mexico.

The TEP application, including associated maps and drawings, can be downloaded in its entirety from the Fossil Energy web site (www.FE.DOE.GOV; choose “Electricity Regulation,” then Pending Procedures).

TEP states that there are no firm contracts in place for the sale of power to Mexico using the proposed transmission lines. Prior to commencing electricity exports to Mexico using the proposed lines, TEP, or any other electricity exporter, must obtain an electricity export authorization from DOE pursuant to section 202(e) of the Federal Power Act.

TEP proposes three alternative corridors, each beginning at its South Substation. About one-half of each alternative corridor would be on privately-owned land, with the other half on Federally-owned land. The study corridors are about two miles wide, but, when constructed, the transmission line would actually use a right-of-way about 125 to 250 feet wide. One alternative corridor, the “Westerly Route” identified by TEP as its preferred route, would extend about 62 miles within the U.S. to the U.S.-Mexico border, primarily on the west side of I-19. The proposed route would exit the South Substation to the west, intersect the existing natural gas pipeline corridor owned by El Paso Natural Gas Company and located approximately six miles west of I-19, turn south, and parallel the natural gas pipeline for about seven miles. Southwest of Green Valley, the Westerly Route would turn southwest for three miles, and then continue south across private lands before crossing the Coronado National Forest on land not currently a Forest Service-designated utility corridor.

The second alternative corridor, the “Central Route” (identified by TEP as its preferred route if the Westerly Route could not be constructed), would extend about 56 miles within the U.S. to the U.S.-Mexico border. The Central Route would also be located primarily on the west side of I-19. The proposed Central Route would begin in the same way as the Westerly Route, but southwest of Green Valley it would continue parallel to the existing natural gas pipeline to a point in the vicinity of Tubac, where it would make a slight southwest turn. Then, for about three miles, this proposed route would be one mile west of the natural gas pipeline. The route then would turn southeast, rejoin the natural gas pipeline corridor and parallel it through the Coronado National Forest in a Forest Service-designated utility corridor that currently contains only the natural gas pipeline.

The third alternative corridor, identified by TEP as the “Easterly Route,” would extend about 60 miles within the U.S. to the U.S.-Mexico border, and for about half this distance would run parallel to the existing 115-kV transmission line owned by Citizens Communications Company, located east of I-19. In the vicinity of Amado, the Easterly Route would cross to the west side of I-19, intersect the existing natural gas pipeline corridor south of Amado on private land, turn south paralleling the natural gas pipeline, and continue, paralleling the natural gas pipeline through the Coronado National Forest in the Forest Service-designated utility corridor.

Each of the three proposed alternative study corridors would cross 100-year floodplains and may cross wetlands. The Westerly Route would cross approximately 1,500 feet of 100-year floodplain; the Central Route, 2,100 feet; the Easterly Route, 6,600 feet. Project activities would include clearing rights-of-way and access roads, digging tower footings, setting transmission towers, hanging transmission wires, constructing a new substation on the west side of Nogales, Arizona, near Mariposa Road, and modifying TEP's existing South Substation.

In a separate but related proceeding, Public Service Company of New Mexico (PNM) has also applied for a Presidential permit to construct an electric transmission line across the U.S. border in the vicinity of Nogales, Arizona. A separate EIS is being prepared in that proceeding. The study corridor identified by TEP as the Central Route is very similar to the study corridor identified by PNM as its “Pipeline Corridor.” TEP's Easterly Route and PNM's “East Valley Corridor” study corridors are similar in that a segment of each parallels the Citizens Communications Company's existing 115-kV transmission line. To assist the reader, maps available from the DOE web site (referenced above) reflect the applicants proposal and also the proposed corridors of the other applicant. Each of the EISs being prepared will consider the potential impacts of the other company's proposed transmission line as part of its cumulative impacts analysis.

Identification of Environmental Issues

A purpose of this notice is to solicit comments and suggestions for consideration in the preparation of the EIS. As background for public comment, this notice contains a list of potential environmental issues that DOE has tentatively identified for analysis. This list is not intended to be all-inclusive or to imply any predetermination of impacts. Following is a preliminary list of issues that may be analyzed in the EIS:

(1) Socioeconomic impacts of development of the land tracts and their subsequent uses;

(2) Impacts on protected, threatened, endangered, or sensitive species of animals or plants, or their critical habitats;

(3) Impacts on floodplains and wetlands;

(4) Impacts on cultural or historic resources;

(5) Impacts on human health and safety;

(6) Impacts on air, soil, and water;

(7) Visual impacts; and

(8) Disproportionately high and adverse impacts on minority and low-income populations.

The EIS will also consider alternatives to the proposed transmission lines, including, to the extent practicable:

(1) No Action Alternative: The EIS will analyze the impacts associated with “no action.” Since the proposed action is the issuance of a Presidential permit for the construction of the proposed transmission lines, “no action” means that the permit would not be issued. However, not issuing the permit would not necessarily imply maintenance of the status quo. It is possible that the applicant and/or the Mexican government may take other actions if the proposed transmission lines are not built. The No Action Alternative will address the environmental impacts that are reasonably foreseeable to occur if the Presidential permit is not issued.

(2) Construction of a powerplant in the U.S. closer to the U.S.-Mexico border with a shorter transmission line extending to the border, an alternative concept for supplying electric power to the target region.

Scoping Process

Interested parties are invited to participate in the scoping process both to refine the preliminary alternatives and environmental issues to be analyzed in depth, and to eliminate from detailed study those alternatives and environmental issues that are not feasible or pertinent. The scoping process is intended to involve all interested agencies (Federal, state, county, and local), public interest groups, Native American tribes, businesses, and members of the public. Potential Federal cooperating agencies include the U.S. Department of the Interior (including the Bureau of Land Management, Bureau of Indian Affairs, Park Service, and the Fish and Wildlife Service), the U.S. Department of Agriculture's Forest Service, the International Boundary and Water Commission, and the Tohono O'odham Nation.

Public scoping meetings will be held at the locations, dates, and times indicated above under the DATES and ADDRESSES sections. These scoping meetings will be informal. The DOE presiding officer will establish only those procedures needed to ensure that everyone who wishes to speak has a chance to do so and that DOE understands all issues and comments. Speakers will be allocated approximately 5 minutes for their oral statements. Depending upon the number of persons wishing to speak, DOE may allow longer times for representatives of organizations. Consequently, persons wishing to speak on behalf of an organization should identify that organization in their request to speak. Persons who have not submitted a request to speak in advance may register to speak at the scoping meeting(s), but advance requests are encouraged. Should any speaker desire to provide for the record further information that cannot be presented within the designated time, such additional information may be submitted in writing by the date listed in the DATES section. Both oral and written comments will be considered and given equal weight by DOE. Meetings will begin at the times specified and will continue until all those present who wish to participate have had an opportunity to do so.

Draft EIS Schedule and Availability

The Draft EIS is scheduled to be issued in December 2001, at which time its availability will be announced in the Federal Register and local media and public comments again will be solicited.

People who do not wish to submit comments or suggestions at this time but who would like to receive a copy of the Draft EIS for review and comment when it is issued should notify Mrs. Russell at the address above.

The Draft EIS will be made available for public inspection at several public libraries and reading rooms in Arizona. A notice of these locations will be provided in the Federal Register and local media at a later date.

Issued in Washington, DC, on July 5, 2001.
Steven V. Cary,
Acting Assistant Secretary, Office of Environment, Safety and Health.

[FR Doc. 01-17224 Filed 7-9-01; 8:45 am]

BILLING CODE 6450-01-P